DEPARTMENT OF ENERGY

Federal Energy Regulatory Commission

[Docket No. RP00-425-002]

Williams Gas Pipelines Central, Inc.; Notice of Proposed Changes in FERC Gas Tariff

November 15, 2000.

Take notice that on November 9, 2000, Williams Gas Pipelines Central, Inc. (Williams) tendered for filing as part of its FERC Gas Tariff, Original Volume No. 1, the following tariff sheet to become effective September 1, 2000:

Second Substitute Original Sheet No. 300

Williams states that this filing is being made pursuant to Section 4 of the Natural Gas Act and in compliance with Commission Order issued on October 27, 2000 in Docket No. RP00-425-001 [93 FERC ¶ 61,094 (2000)]. That Order approved tariff sheets filed on September 29, 2000 that were filed to comply with ordering Paragraph (B) of the Commission's August 31, 2000 Order [92 FERC ¶ 61,190 (2000)] in this proceeding, which approved Williams' negotiated rates program. The instant filing revises tariff language to make it clear that the applicable recourse rate, in Section 31.9 of the General Terms and Conditions, including surcharges, is the cap for bid matching under the ROFR process, as requested by the Missouri Public Service Commission (MPSC) and directed by the Commission.

Williams states that copies of the revised tariff sheets are being mailed to Williams's jurisdictional customers, all parties appearing on the official service list, and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29677 Filed 11-20-00; 8:45 am]

BILLING CODE 6717-01-M